COMMISSION ON CIVIL RIGHTS

Sunshine Act Meeting

AGENCY: United States Commission on Civil Rights.

ACTION: Notice of Commission public business meeting.

DATES: Friday, September 16, 2022, 10:00 a.m. EST.

ADDRESSES: Meeting to take place telephonically and is open to the public via phone at 1-866-269-4260; Confirmation Code: 7518631

FOR FURTHER INFORMATION CONTACT: Angelia Rorison: 202-376-8371;

publicaffairs@usccr.gov.

SUPPLEMENTARY INFORMATION: In accordance with the Government in Sunshine Act (5 U.S.C. 552b), the Commission on Civil Rights is holding a meeting to discuss the Commission's business for the month. This business meeting is open to the public. Computer assisted real-time transcription (CART) will be provided. The web link to access CART (in English) on Friday, September 16, 2022, is https://www.streamtext.net/player?event=USCCR. Please note that CART is text-only translation that occurs in real time during the meeting and is not an exact transcript.

Meeting Agenda

I. Approval of Agenda

II. Business Meeting

A. Discussion and Vote on Advisory Committee Appointments

B. Discussion and Vote on 2023 Topics for USCCR Reports

C. Management and Operations

• Staff Director's Report

III. Adjourn Meeting

Dated: September 8, 2022.
Angelia Rorison,
USCCR Media and Communications Director.

[FR Doc. 2022-19785 Filed 9-8-22; 4:15 pm]

BILLING CODE 6335-01-P